OFFICE OF MANAGEMENT AND BUDGET

Work Reserved for Performance by Federal Government Employees; Correction

AGENCY: Office of Federal Procurement Policy, Office of Management and Budget.

ACTION: Notice; Correction.

SUMMARY: The Office of Federal Procurement Policy (OFPP) in the Office of Management and Budget (OMB) is making corrections to the addresses and instructions for submitting and viewing public comments on the Proposed Policy Letter “Work Reserved for Performance by Federal Government Employees” (75 FR 16188-16197, March 31, 2010). The ADDRESSES section and updated Web site below should be used in place of those previously published in the March 31, 2010 notice. All other information from the March 31st notice, including the June 1, 2010, deadline for submission of comments, remains unchanged. The full text of the original notice is available at http://edocket.access.gpo.gov/2010/2010-7329.htm.

FOR FURTHER INFORMATION CONTACT: Mathew Blum, OFPP, (202) 395-4953 or mblum@omb.eop.gov.

Corrections

In the Federal Register on March 31, 2010, beginning at the top of page 16189, correct the ADDRESSES to read:

ADDRESSES: All comments should be submitted via one of the following methods:

• Online: http://www.regulations.gov.

• Fax: 202-395-5105.

• Mail: Office of Federal Procurement Policy, Attn: Mathew Blum, New Executive Office Building, Room 9013, 725 17th Street, NW., Washington, DC 20503.

• Instructions: Please submit comments only and include your name, company name (if any), and cite “Proposed OFPP Policy Letter” in all correspondence. All comments received will be posted, without change, to http://www.regulations.gov, without redaction, so commenters should not include information that they do not wish to be posted (for example because they consider it personal or business confidential).

In the Federal Register on March 31, 2010, correct the hyperlink in the last sentence on page 16189 to read:

For a copy of public comments, go to http://www.whitehouse.gov/omb/assets/procurement_gov_contracting/public_comments.pdf.

Daniel I. Gordon,
Administrator, Office of Federal Procurement Policy.

[FR Doc. 2010-8824 Filed 4-16-10; 8:45 am]

BILLING CODE P